DEPARTMENT OF ENERGY

Federal Energy Regulatory Commission

Combined Notice of Filings #1

Take notice that the Commission received the following electric corporate filings:

Docket Numbers: EC15-167-000.

Applicants: Sky River LLC, Sky River Asset Holdings, LLC, Sagebrush, a California partnership, Sagebrush Partner Fifteen, Inc.

Description: Clarification to July 13, 2015 Application of Sky River LLC, et al. for Authorization Under Section 203 of the Federal Power Act and Request for Expedited Action.

Filed Date: 8/6/15.

Accession Number: 20150806-5161.

Comments Due: 5 p.m. ET 8/27/15.

Docket Numbers: EC15-184-000.

Applicants: Lakeswind Power Partners, LLC.

Description: Application for Authorization Pursuant to Section 203 of the Federal Power Act of Lakeswind Power Partners, LLC.

Filed Date: 8/7/15.

Accession Number: 20150807-5235.

Comments Due: 5 p.m. ET 8/28/15.

Docket Numbers: EC15-185-000.

Applicants: Southwestern Public Service Company, Golden Spread Electric Cooperative.

Description: Southwestern Application for Authorization to Acquire Jurisdictional Battery Assets of Southwestern Public Service Company and Golden Spread Electric Cooperative.

Filed Date: 8/7/15.

Accession Number: 20150807-5237.

Comments Due: 5 p.m. ET 8/28/15.

Docket Numbers: EC15-186-000.

Applicants: Aircraft Services Corporation, Cogen Technologies Linden Venture, L.P., East Coast Power Linden Holding, L.L.C., AEIF Linden SPV, LLC.

Description: Application for Authorization under Section 203 of the Federal Power Act and Request for Waivers, Confidential Treatment, Expedited Consideration and Shortened Comment Period of Aircraft Services Corporation, et al.

Filed Date: 8/7/15.

Accession Number: 20150807-5251.

Comments Due: 5 p.m. ET 8/28/15.

Docket Numbers: EC15-187-000.

Applicants: MACH Gen, LLC, Millennium Power Partners, L.P., New Athens Generating Company, LLC, New Harquahala Generating Company, LLC, Talen Energy Supply, LLC.

Description: Joint Application for Approval Pursuant to Section 203 of the Federal Power Act of MACH Gen, LLC, et al.

Filed Date: 8/10/15.

Accession Number: 20150810-5079.

Comments Due: 5 p.m. ET 8/31/15.

Take notice that the Commission received the following electric rate filings:

Docket Numbers: ER10-2265-008; ER12-21-018; ER11-2211-007; ER11-2209-007; ER11-2210-007; ER11-2207-007; ER11-2206-007; ER13-1150-005; ER13-1151-005; ER11-2855-018; ER14-1818-008; ER10-2260-005; ER10-2261-005; ER10-2339-010; ER10-2338-010; ER10-2340-010; ER11-3727-013; ER10-2262-004; ER11-2062-017; ER10-1291-018; ER11-2508-016; ER11-4307-017; ER12-1711-013; ER12-261-016; ER10-2264-005; ER10-1581-015; ER10-2354-007; ER11-2107-008; ER11-2108-008; ER10-2888-017; ER13-1803-009; ER13-1790-009; ER13-1746-010; ER12-1525-013; ER10-2266-004; ER12-2398-012; ER11-3459-012; ER11-4308-017; ER11-2805-016; ER11-2856-018; ER13-2107-008; ER13-2020-008; ER13-2050-008; ER11-2857-018; ER10-2359-006; ER10-2381-006; ER10-2575-006.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Avenal Park LLC, Boston Energy Trading and Marketing LLC, Cabrillo Power I LLC, Cabrillo Power II LLC, CP Power Sales Seventeen, L.L.C., CP Power Sales Nineteen, L.L.C, CP Power Sales Twenty, L.L.C., El Segundo Energy Center LLC, El Segundo Power, LLC, Energy Plus Holdings LLC, GenConn Energy LLC, GenOn Energy Management, LLC, Green Mountain Energy Company, High Plains Ranch II, LLC, Independence Energy Group LLC, Long Beach Generation LLC, Long Beach Peakers LLC, Midway-Sunset Cogeneration Company, North Community Turbines LLC, North Wind Turbines LLC, Norwalk Power LLC, NRG California South LP, NRG Delta LLC, NRG Marsh Landing LLC, NRG Solar Alpine LLC, NRG Solar Blythe LLC, NRG Solar Borrego I LLC, NRG Solar Roadrunner LLC, Reliant Energy Northeast LLC, RRI Energy Services, LLC, Sand Drag LLC, Solar Partners I, LLC Solar Partners II, LLC, Solar Partners VIII, LLC, Sun City Project LLC, Sunrise Power Company, LLC, Walnut Creek Energy, LLC, Watson Cogeneration Company.

Description: Notice of Change in Status of the NRG CAISO MBR Sellers.

Filed Date: 8/7/15.

Accession Number: 20150807-5260.

Comments Due: 5 p.m. ET 8/28/15.

Docket Numbers: ER14-225-003.

Applicants: New Brunswick Energy Marketing Corporation.

Description: Notice of Non-Material Change in Status and Compliance Filing of New Brunswick Energy Marketing Corporation.

Filed Date: 8/7/15.

Accession Number: 20150807-5233.

Comments Due: 5 p.m. ET 8/28/15.

Docket Numbers: ER15-2260-001.

Applicants: PJM Interconnection, L.L.C.

Description: Tariff Amendment: Amendment to Compliance Filing submitted on 7/23/15 under Docket No. ER15-2260 to be effective 3/31/2016.

Filed Date: 8/7/15.

Accession Number: 20150807-5203.

Comments Due: 5 p.m. ET 8/28/15.

Docket Numbers: ER15-2402-000.

Applicants: Calpine Greenleaf, Inc.

Description: Tariff Cancellation: Notice of Cancellation to be effective 8/8/2015.

Filed Date: 8/7/15.

Accession Number: 20150807-5201.

Comments Due: 5 p.m. ET 8/28/15.

Docket Numbers: ER15-2403-000.

Applicants: Pacific Gas and Electric Company.

Description: Section 205(d) Rate Filing: Lathrop Irrigation District Procurement Agreement to be effective 7/10/2015.

Filed Date: 8/10/15.

Accession Number: 20150810-5003.

Comments Due: 5 p.m. ET 8/31/15.

Docket Numbers: ER15-2404-000.

Applicants: ISO New England Inc., New England Power Pool Participants Committee.

Description: Section 205(d) Rate Filing: FCM Sloped Demand Curve: Reconfiguration Auctions and CSO Bilaterals to be effective 10/12/2015.

Filed Date: 8/10/15.

Accession Number: 20150810-5084.

Comments Due: 5 p.m. ET 8/31/15.

Docket Numbers: ER15-2405-000.

Applicants: Alabama Power Company.

Description: Section 205(d) Rate Filing: White Oak Solar LGIA Filing to be effective 7/27/2015.

Filed Date: 8/10/15.

Accession Number: 20150810-5127.

Comments Due: 5 p.m. ET 8/31/15.

Docket Numbers: ER15-2406-000.

Applicants: ITC Midwest LLC.

Description: Section 205(d) Rate Filing: Filing of Joint Use Pole Agreement with Clarke Electric Cooperative to be effective 10/9/2015.

Filed Date: 8/10/15.

Accession Number: 20150810-5140.

Comments Due: 5 p.m. ET 8/31/15.

Docket Numbers: ER15-2407-000.

Applicants: Midcontinent Independent System Operator, Inc.

Description: Section 205(d) Rate Filing: 2015-08-10_SA 2826 ATC-Dairyland Ownership and Cost-Sharing Agreement to be effective 8/11/2015.

Filed Date: 8/10/15.

Accession Number: 20150810-5155.

Comments Due: 5 p.m. ET 8/31/15.

Docket Numbers: ER15-2408-000.

Applicants: Midcontinent Independent System Operator, Inc.

Description: Section 205(d) Rate Filing: 2015-08-10_SA 2827 ATC-Dairyland Attachment Agreement to be effective 8/11/2015.

Filed Date: 8/10/15.

Accession Number: 20150810-5158.

Comments Due: 5 p.m. ET 8/31/15.

Take notice that the Commission received the following electric securities filings:

Docket Numbers: ES15-38-000.

Applicants: MDU Resources Group, Inc.

Description: Amendment to July 9, 2015 Application of MDU Resources Group, Inc. for authorization is issue short-term securities in the form of promissory notes and/or commercial paper.

Filed Date: 8/7/15.

Accession Number: 20150807-5248.

Comments Due: 5 p.m. ET 8/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2015.
Nathaniel J. Davis, Sr.,
Deputy Secretary.

[FR Doc. 2015-20067 Filed 8-13-15; 8:45 am]

BILLING CODE 6717-01-P